DEPARTMENT OF HEALTH AND HUMAN SERVICES

Administration for Children and Families

Submission for OMB Review; Comment Request

Title: Performance Progress Report (PPR).

OMB No.: New Collection.

Description: The PPR is a set of uniform reporting formats that will be used for standard reporting on performance under grants and cooperative agreements issued by the Administration for Children and Families (ACF) and the Grants Center of Excellence (CoE) partners. Performance reporting is an integral part of the President's Management Agenda (PMA). In addition to allowing for uniformity of information collection, these formats will support systematic electronic collection and submission of information. These formats will provide interim and final performance progress information as required by OMB Circulars A-102 and A-110.

The PPR consists of a cover page and six optional forms or formats. The cover page contains identifying data elements and a section for a performance narrative. Use of the cover page is required, and programs may only require their respondents to submit this page and/or attach a performance narrative. Alternatively, programs may opt to require the cover page and one or more of the six optional formats.

Respondents: ACF, the Grants Center of Excellence partners and their grantees.

Annual Burden Estimates
Instrument | Number of respondents | Number of responses per respondent | Average burden hours per response | Total burden hours
Performance Progress Report (SF-PPR) | 16,864 | 1 | .416666 | 7,027
Cover Page Continuation (SF-PPR-2) | 6,540 | 1 | .333333 | 2,180
Performance Measures (SF-PPR-A) | 755 | 1 | .75 | 566
Program Indicators (SF-PPR-B) | 3,075 | 1 | .166666 | 512
Benchmark Evaluations (SF-PPR-C) | 249 | 1 | 1.50 | 374
Table of Activity Results (SF-PPR-D) | 3,019 | 1 | .75 | 2,264
Activity Based Expenditures (SF-PPR-E) | 2,779 | 1 | .333333 | 926
Program/Project Management (SF-PPR-F) | 37 | 1 | .50 | 19

Estimated Total Annual Burden Hours: 13,868.

Additional Information: Copies of the proposed collection may be obtained by writing to the Administration for Children and Families, Office of Administration, Office of Information Services, 370 L'Enfant Promenade, SW., Washington, DC 20447, Attn: ACF Reports Clearance Officer. Email address: infocollection@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following Office of Management and Budget, Paperwork Reduction Project, FAX: 202-395-6974, Attn: Desk Officer for the Administration for Children and Families.

Dated: July 18, 2007.
Robert Sargis,
Reports Clearance Officer.

[FR Doc. 07-3579 Filed 7-23-07; 8:45 am]

BILLING CODE 4184-01-M